ENVIRONMENTAL PROTECTION AGENCY

[FRL-8527-2]

Recent Posting to the Applicability Determination Index (ADI) Database System of Agency Applicability Determinations, Alternative Monitoring Decisions, and Regulatory Interpretations Pertaining to Standards of Performance for New Stationary Sources, National Emission Standards for Hazardous Air Pollutants, and the Stratospheric Ozone Protection Program

AGENCY: Environmental Protection Agency (EPA).

ACTION: Notice of availability.

SUMMARY: This notice announces applicability determinations, alternative monitoring decisions, and regulatory interpretations that EPA has made under the New Source Performance Standards (NSPS); the National Emission Standards for Hazardous Air Pollutants (NESHAP); and the Stratospheric Ozone Protection Program.

FOR FURTHER INFORMATION CONTACT: An electronic copy of each complete document posted on the Applicability Determination Index (ADI) database system is available on the Internet through the Office of Enforcement and Compliance Assurance (OECA) Web site at: http://www.epa.gov/compliance/monitoring/programs/caa/adi.html. The document may be located by control number, date, author, subpart, or subject search. For questions about the ADI or this notice, contact Maria Malave at EPA by phone at: (202) 564-7027, or by e-mail at: malave.maria@epa.gov. For technical questions about the individual applicability determinations or monitoring decisions, refer to the contact person identified in the individual documents, or in the absence of a contact person, refer to the author of the document.

SUPPLEMENTARY INFORMATION:

Background: The General Provisions to the NSPS in 40 CFR part 60 and the NESHAP in 40 CFR part 61 provide that a source owner or operator may request a determination of whether certain intended actions constitute the commencement of construction, reconstruction, or modification. EPA's written responses to these inquiries are broadly termed applicability determinations. See 40 CFR 60.5 and 61.06. Although the part 63 NESHAP and section 111(d) of the Clean Air Act regulations contain no specific regulatory provision providing that sources may request applicability determinations, EPA does respond to written inquiries regarding applicability for the part 63 and section 111(d) programs. The NSPS and NESHAP also allow sources to seek permission to use monitoring or recordkeeping which is different from the promulgated requirements. See 40 CFR 60.13(i), 61.14(g), 63.8(b)(1), 63.8(f), and 63.10(f). EPA's written responses to these inquiries are broadly termed alternative monitoring decisions. Furthermore, EPA responds to written inquiries about the broad range of NSPS and NESHAP regulatory requirements as they pertain to a whole source category. These inquiries may pertain, for example, to the type of sources to which the regulation applies, or to the testing, monitoring, recordkeeping or reporting requirements contained in the regulation. EPA's written responses to these inquiries are broadly termed regulatory interpretations.

EPA currently compiles EPA-issued NSPS and NESHAP applicability determinations, alternative monitoring decisions, and regulatory interpretations, and posts them on the Applicability Determination Index (ADI) on a quarterly basis. In addition, the ADI contains EPA-issued responses to requests pursuant to the stratospheric ozone regulations, contained in 40 CFR part 82. The ADI is an electronic index on the Internet with over one thousand EPA letters and memoranda pertaining to the applicability, monitoring, recordkeeping, and reporting requirements of the NSPS and NESHAP. The letters and memoranda may be searched by control number, date, office of issuance, subpart, citation, control number or by string word searches.

Today's notice comprises a summary of 51 such documents added to the ADI on November 2, 2007. The subject, author, recipient, date and header of each letter and memorandum are listed in this notice, as well as a brief abstract of the letter or memorandum. Complete copies of these documents may be obtained from the ADI through the OECA Web site at: http://www.epa.gov/compliance/monitoring/programs/caa/adi.html.

Summary of Headers and Abstracts

The following table identifies the database control number for each document posted on the ADI database system on November 2, 2007; the applicable category; the subpart(s) of 40 CFR part 60, 61, or 63 (as applicable) covered by the document; and the title of the document, which provides a brief description of the subject matter.

We have also included an abstract of each document identified with its control number after the table. These abstracts are provided solely to alert the public to possible items of interest and are not intended as substitutes for the full text of the documents. This notice does not change the status of any document with respect to whether it is “of nationwide scope or effect” for purposes of section 307(b)(1) of the Clean Air Act. Neither does it purport to make any document that was previously non-binding into a binding document.

ADI Determinations Uploaded on November 2, 2007
Control No. | Category | Subpart(s) | Title
A070001 | Asbestos | M | Aluminum Sheds and Fruit Stands.
A070002 | Asbestos | M | Residential Homes Demolished for Highway Expansion.
A070003 | Asbestos | M | 260 Linear Feet Regulatory Threshold.
A070004 | Asbestos | M | Recycling Pipelines.
A070005 | Asbestos | M | Asbestos-Containing Waste Material.
A070006 | Asbestos | M | Rounding Reported Values.
M070001 | MACT | A, DDDDD | Alternative Monitoring for Gaseous Fuel Fired Sources.
M070002 | MACT | DDDDD | Multi-Cyclone Collectors.
M070003 | MACT | RRR | Alternative Calibration for Thermocouple.
M070004 | MACT | RRR | Secondary Aluminum Production.
M070005 | MACT | DDDD, DDDDD | Alternative Monitoring for CO.
M070006 | MACT | DDDD, DDDDD | Integrated Heat Energy Systems.
M070007 | MACT | UUUU | Alternative Monitoring for Biofilter Effluent Conductivity.
M070008 | MACT | DDDDD | Averaging Time and Performance Testing.
M070009 | MACT | DDDDD | De Minimis Fuels and HBCA Operation.
M070010 | MACT | T | Airless/Airtight Degreasers.
M070011 | MACT | HH | Volatile Hazardous Air Pollutants Content Determination.
M070012 | MACT | OOOO | Solvent-Based Fabric Finishing.
M070013 | MACT | MMMM, QQQQ | Coating Wooden Window Components.
M070014 | MACT | II | Large Yacht Repainting and Repair.
M070015 | MACT | GG | Aerospace Solvent Use.
Z070001 | NESHAP | M | Debris Management and Disposal.
700001 | NSPS | NNN, RRR | Testing, Monitoring and Recordkeeping for VOC Emissions.
700002 | NSPS | VV | By-Product Chemical Mixture.
700003 | NSPS | Db, Dc | Wood Gasification Systems.
700004 | NSPS | UUU | Titanium Dioxide Spray Dryers.
700005 | NSPS | MM | Performance Test Waiver Request.
700006 | NSPS | Appendix B | RATA Extension and Alternative Monitoring.
700007 | NSPS | Appendix B | RATA Extension and Alternative Monitoring.
700008 | NSPS | VV | Alternative Monitoring for Leak Detection.
700009 | NSPS | NNN | Alternative Flow Monitoring.
700010 | NSPS | DD | Applicability of NSPS Subpart DD to Malted and Unmalted Processes.
700011 | NSPS | A, Db | Delay of Continuous Opacity Monitoring System.
700012 | NSPS | GG | Initial Performance Test Waiver Request.
700013 | NSPS | GG | Natural Gas Demonstration.
700014 | NSPS | Db | Fuel Usage Monitoring Requirement.
700015 | NSPS | GG | Custom Fuel Monitoring Schedule.
700016 | NSPS | Dc | Change of Nozzle Tip to Accommodate Residual Fuel.
700017 | NSPS | III | Notification of Exemption for Commercial and Industrial Solid Waste Incinerators.
700018 | NSPS | Dc | Alternative Fuel Monitoring.
700019 | NSPS | Db, Dc | Idaho Supreme Potato Boilers.
700020 | NSPS | A, GG | Custom Fuel Monitoring Schedule.
700021 | NSPS | A, GG | Initial Performance Test Deadline Extension Request.
700022 | NSPS | A, I | Alternative Test Method for Performance Evaluation.
700023 | NSPS | Dc | Reduction in Fuel Use Recordkeeping.
700024 | NSPS | Ec | Hospital/Medical/Infectious Waste Incineration.
700025 | NSPS | Dc | Reduction in Fuel Use Recordkeeping and Alternative Fuel Monitoring.
700026 | NSPS | Dc | Reduction in Fuel Use Recordkeeping.
700027 | NSPS | Dc | Reduction in Fuel Use Recordkeeping.
700028 | NSPS | Dc | Relocated Boiler.
700063 | NSPS | NNN, RRR | Production of Biodiesel and Glycerin from Soybean Oil and Methane.

Abstract for [A070001]:

Q: Could EPA clarify to the Florida Department of Transportation if aluminum sheds and fruit stands are subject to the notification and inspection requirements under the asbestos NESHAP, 40 CFR part 61, subpart M?

A: EPA explains that prefabricated sheds and small structures that do not have utilities (water, electricity, and sewer) do not meet the definition of structures under the asbestos NESHAP regulations, and thus are not subject to the rule. If a structure meets the definition of structure in the asbestos NESHAP, which would include any structure acquired by the DOT, it must be inspected as required by § 61.145(a) of NESHAP subpart M.

Abstract for [A070002]:

Q: Could EPA clarify to the Air Pollution Control Program in Jefferson City, Missouri whether single family residences are subject to the Asbestos NESHAP, 40 CFR part 61, subpart M, if they are being demolished as part of a highway expansion?

A: EPA explains that a group of residential buildings under the control of the same owner or operator is considered an installation according to the definition of “installation,” and thus is covered by the asbestos NESHAP. As an example, several houses located on a highway right-of-way that are all demolished as part of the same highway project would be considered an “installation,” even when the houses are not proximate to each other. In this example, the houses are under the control of the same owner or operator, that is, the highway agency responsible for the highway project.

Abstract for [A070003]:

Q: Could EPA clarify to the City of Newport News, Virginia, whether the regulatory threshold of 260 linear feet applies to other materials, other than pipes, such as caulking or roof flashing, under NESHAP, 40 CFR part 61, subpart M?

A: EPA explains that the regulatory threshold of 260 linear feet is applicable only to pipes under 40 CFR part 61, subpart M. Other materials, such as caulking or roof flashing, would be subject to the 160 square foot standard. It is acknowledged that using the square foot requirement may reduce the chance of these materials triggering the regulated threshold.

Abstract for [A070004]:

Q1: Are pipelines at the South West Pipe Services facility in Texas subject to 40 CFR part 61, subpart M?

A1: Yes. EPA finds that the pipeline is considered a facility component being renovated, and is subject to the asbestos NESHAP.

Q2: If the pipeline renovation, containing more than one percent asbestos and more than 260 linear feet, is made friable (i.e., crumbled, pulverized, or reduced to powder) subjecting the project to the regulations under 40 CFR part 61, subpart M, who is considered the owner/operator?

A2: EPA finds that the owner/operator can be the owner of the pipeline, the contractor removing the pipe from the ground, and the company that purchases the pipe to recycle the steel pipe, based on the definition of owner or operator in the Asbestos NESHAP. Therefore, all entities involved in a pipeline renovation operation, which is subject to the requirements of the asbestos NESHAP, would have to comply with the asbestos NESHAP standards.

Q3: If the pipeline renovation is not subject to the regulations under 40 CFR part 61, subpart M, and the pipe is sold to a third party, which by its work practice causes the pipe to become friable, is the pipe now regulated under the asbestos NESHAP?

A3: Yes. EPA finds that the asbestos-impregnated tar or asbestos paper coating use on pipelines is considered Category II asbestos-containing material. When it was removed as nonregulated, there is the expectation the coating would remain nonfriable and disposed in an approved landfill. Selling the pipe to a third party, who then causes the coating to become friable, defeats the purpose of the rule. Once the third party causes 260 linear feet of pipe coating to become friable the job is now regulated and all applicable regulations apply under the asbestos NESHAP.

Q4: Are there guidelines for recycling of old pipelines under 40 CFR part 61, subpart M?

A4: No. EPA explains that there are no guidelines for recycling. However, the recycling operation may be subject to the asbestos NESHAP regulations if it causes the pipeline to become friable.

Abstract for [A070005]:

Q1: Could EPA clarify to the Iowa Department of Natural Resources at what point asbestos-containing material (ACM) becomes asbestos-containing waste material (ACWM) subject to the provisions of under 40 CFR 61.150?

A1: EPA explains that ACM becomes ACWM once the asbestos-containing material is removed from a facility component or, as part of a larger facility component, a portion of the facility component is removed. The asbestos-containing material must meet one of the three regulated thresholds, i.e., the 260 linear feet threshold on pipes, the 160 square feet threshold on other facility components, or the 35 cubic feet threshold where the length or area could not be measured previously for the asbestos-containing material to become asbestos-containing waste material, as specified under the asbestos NESHAP.

Q2: Does 40 CFR 61.150(a) provide a choice between the no visible emission standard and a control or waste treatment method?

A2: Yes. EPA explains that the subject rule provision allows the owner/operator the ability to choose between two compliance alternatives, i.e., the “no visible emission” standard or the control or waste treatment methods specified in 40 CFR 61.150(a).

Abstract for [A070006]:

Q: Could EPA clarify to the Saint Louis County Health Department in Missouri how best to interpret the following phrase in 40 CFR part 63, subpart E: “the value reported should be rounded to the nearest percent”, in connection with point counting results to determine the percentage of asbestos as between 1.0 percent and 1.5 percent and defining Category I and Category II nonfriable asbestos-containing material (ACM)?

A: EPA explains that when a bulk sample is analyzed using Polarized Light Microscopy, and further quantified using the point counting method/formula in 40 CFR part 763, Subpart E, Appendix E, Section 1.7.2.4, sample results are allowed to be rounded to the nearest percent. EPA interprets the rounding of results using the formula in Section 1.7.2.4 as, if the sample result yields a=4, “a” being the number of asbestos counts, the result is 1 percent, which does not meet the regulatory threshold of greater than 1 percent. If the sample result yields a=5, the result is 1.25 percent asbestos, which may be rounded down to 1 percent, which is not greater than 1 percent and therefore not regulated. If the sample result yields a=6, the result is 1.5 percent asbestos, which would be rounded to 2 percent and therefore regulated.

Abstract for [M070001]:

Q1: Could EPA clarify to the International Paper Company whether the health-based compliance alternative (HBCA) includes the testing of natural gas fired sources under 40 CFR part 63, subpart DDDDD?

A1: EPA does not expect natural gas fired sources to emit regulated pollutants under Subpart DDDDD, and thus does not require that they be included in the HBCA.

Q2: May a source request the use of an alternative monitoring under the health-based compliance alternative (HBCA) under 40 CFR part 63, subpart DDDDD?

A2: Yes. EPA explains that a source may request alternative monitoring as allowed in the general provisions, under 40 CFR part 63, subpart A.

Abstract for [M070002]:

Q: Could EPA clarify to the American Forest and Paper Association whether multi-cyclone collectors on wood-fired boilers are considered “inherent process equipment” as defined in the Compliance Assurance Monitoring (CAM) rule, and thus not subject to 40 CFR part 63, subpart DDDDD as a “control device”?

A: EPA cannot conclude categorically that multi-cyclones always qualify as “inherent process equipment” as defined in the CAM Rule in 40 CFR 64.1. However, there may be site-specific cases in which a multi-cyclone may serve as “inherent process equipment” rather than as a “control device.” Requests for site-specific determinations should be submitted in writing to the delegated agency responsible for implementing MACT subpart DDDDD.

Abstract for [M070003]:

Q: Does EPA approve an alternative to calibrating the thermocouple on an afterburner every six months for the City Wide Towing and Auto Wrecking facility in Springfield, Ohio, under 40 CFR part 63, subpart RRR?

A: Yes. EPA conditionally approves an alternative method under MACT subpart RRR where dual thermocouples are used so that both the data logger and the digital read out each has its own thermocouple to allow sufficient current for proper readings. Both thermocouples read the same temperature and report to their own piece of equipment. As part of the standard operating procedure, a second set of thermocouples must be kept on site to replace a malfunctioning unit immediately.

Abstract for [M070004]:

Q1: Could EPA clarify to Bacchus Environmental if a specific facility can process a charge “mixture” in excess of the performance test weight under 40 CFR part 63, subpart RRR, if the charge weight of purchased scrap in a charge “mixture” does not exceed the performance test charge weight when 100 percent purchased scrap was melted? And may the facility exceed this weight when processing 100 percent clean charge?

A1: EPA explains that the facility may exceed the performance test charge weight under MACT subpart RRR regulations as long as such exceedance does not result in the performance test no longer being representative of the facility operation that is likely to generate the highest emissions for the regulated pollutants.

Q2: If a facility demonstrates through performance tests that each individual emission unit within the secondary aluminum production unit is in compliance with the applicable emission limits, are the 3-day, 24-hour rolling average emission calculations of dioxin/furan (D/F) required for this secondary aluminum processing unit under 40 CFR part 63, subpart RRR?

A2: EPA explains that a facility with a secondary aluminum processing unit (SAPU) that is meeting the requirements of § 63.1510(u) is not required to conduct the 3-day, 24 hour rolling average emission calculations of D/F in § 63.1510(t) under MACT subpart RRR regulations. As an alternate to § 63.1510(t), § 63.1510(u) requires, through performance tests, that each individual emission unit within the SAPU demonstrate compliance with the applicable emission limits

Abstract for [M070005]:

Q1: Is monitoring of firebox temperature in the Regenerative Thermal Oxidizer (RTO) units as required under 40 CFR part 63, subpart DDDD, § 63.2269(b), a comparable alternative to carbon oxide (CO) monitoring required under the 40 CFR part 63, subpart DDDDD, § 63.7510(c), in order to ensure adequate destruction of organic hazardous air pollutants (HAPs) at the Norbord Texas Industries facility in Marion County, Texas?

A1: Yes. EPA approves the alternative monitoring plan request under the Boiler MACT to maintain the 3-hour block average firebox temperature of the RTO units at a level that is greater than or equal to the minimum firebox temperature established during the performance test as specifically required under the Plywood MACT, in §§ 63.2240(b) and 63.2262(k)).

Q2: Because Norbord Industries has not yet conducted the performance test required under 40 CFR part 63, subpart DDDD, may it utilize an interim set point of 1500 degrees Fahrenheit for the RTO firebox minimum temperature control until testing occurs?

A2: Yes. EPA finds that data collected as part of the Plywood MACT shows this temperature set point is acceptable in the interim for the RTO Units at Norbord's oriented strandboard (OSB) plant.

Abstract for [M070006]:

Q1: Is 40 CFR part 63, subpart DDDDD, “the Boiler MACT,” applicable to the Integrated Heat Energy System (IHES) at the Norbord Industries LLP Jefferson Oriented Strandboard (OSB) Plant located in Marrion, Texas, given that 40 CFR part 63, subpart DDDD, “the Plywood MACT,” already applies?

A1: Yes. EPA finds that the Teaford Furnace of the IHES is considered a process heater and an affected source under the Boiler MACT as defined in 40 CFR 63.7575. However, that portion of the combustion gases from the Teaford Furnace used to direct-fire the dryer unit is considered an affected source under the Plywood MACT, 40 CFR 63.2232(b), and is exempted from the Boiler MACT under 40 CFR 63.7491(l).

Abstract for [M070007]:

Q1: Does EPA approve the Viskase Companies request to monitor biofilter effluent conductivity as an alternative to effluent pH at two of its facilities located which are located in Loudon, Tennessee and Osceola, Arkansas under 40 CFR part 63, subpart UUU?

A1: Yes. EPA conditionally approves the monitoring request to establish and monitor an effluent conductivity operating limit for the biofilter units. The effluent conductivity operating limit must be based on a performance test and can be supplemented by engineering assessments and/or manufacturer's recommendations.

Q2: Could EPA clarify 40 CFR 63.505(c), which allows the owner or operator to supplement the parameter values measured during the performance test with engineering assessments and/or manufacturer's recommendations, for the Viskase Companies facility in Loudon, Tennessee?

A2: EPA explains that 40 CFR 63.505(c) does not allow control device operating parameters to be based solely on good engineering practice and the manufacturer's recommendations. It does allow facilities to supplement the parameter monitoring levels established during the performance test with engineering assessments and/or manufacturer's recommendations. This supplementary data may allow facilities to avoid performance testing over the entire range of expected parameter values. Operating limits must be established during a performance test and can then be supplemented by engineering assessments and/or manufacturer's recommendations. Facilities subject to 40 CFR part 63, subpart UUUU, must meet the performance testing requirements in 40 CFR 63.5535, as well as the requirements in 40 CFR 63.7 of the General Provisions (GP). Facilities must also meet the applicable notification requirements in the General Provisions, including the performance testing notification requirements in 40 CFR 63.9(e), as well as the notification of compliance status in 40 CFR 63.9(h).

Q3: Does EPA approve the Viskase Companies request that testing for closed vent systems be waived because the vent system is operated under negative pressure, under 40 CFR part 63, subpart UUUU?

A3: Yes. EPA conditionally approves the request to waive the closed vent system testing if the facility meets the requirements specified for negative pressure systems in other NESHAPs, (e.g., Pulp and Paper NESHAP) including an initial and annual demonstration of the negative pressure system using the procedures specified in the EPA response.

Abstract for [M070008]:

Q1: Could EPA clarify for the American Forest and Paper Association the averaging period for determining continuous compliance with the fuel operating limits under 40 CFR part 63, subpart DDDDD?

A1: EPA explains that there is no averaging period in MACT subpart DDDDD for determining continuous compliance with the fuel operating limit.

Q2: Does a stack test conducted under the health-based compliance alternative (HBCA) (Appendix A) qualify as a performance test as referred to in 40 CFR part 63, subpart DDDDD, § 63.7540(a)(1)?

A2: No. EPA explains that a stack test conducted under the HBCA does not qualify as a performance test under 40 CFR part 63, subpart DDDDD.

Q3: Is soot blowing required during a stack test under 40 CFR part 63, subpart DDDDD?

A3: Yes. EPA explains that soot blowing should be included during the stack test under 40 CFR part 63, subpart DDDDD.

Q4: Does EPA allow alternate pH calibration plans under 40 CFR part 63, subpart DDDDD?

A4: Yes. EPA explains that owners/operators may submit a request for an alternative pH schedule under MACT subpart DDDDD.

Abstract for [M070009]:

Q1: May a de minimis threshold be established to exclude small quantities of miscellaneous fuels (e.g., waste paper, oily rags, used oil, etc.) from the testing requirements under 40 CFR part 63, subpart DDDDD?

A1: No. EPA explains that MACT subpart DDDDD does not provide a de minimis threshold for small quantities of miscellaneous wastes.

Q2: What are the operating limits and monitoring requirements under 40 CFR part 63, subpart DDDDD, when the health-based compliance option is used, the manganese emission rate is determined by stack testing, and the total selected metals (TSM), not including manganese, was determined via fuel analysis?

A2: The operating limits and monitoring requirements for manganese under the health-based compliance alternative (HBCA) are site-specific, determined by the owner or operator, and incorporated into the Title V operating permit. The operating limits and monitoring requirements for the remaining TSM using the fuel analysis option are in 40 CFR part 63, subpart DDDDD, § 63.7521 and Table 6.

Abstract for [M070010]:

Q: Does 40 CFR part 63, subpart T, apply to ultrasonic airless/airtight degreasers manufactured by the Tiyoda-Serec Company's facility in Ventura County, California?

A: Yes. EPA finds that 40 CFR 63.461 defines a solvent cleaning machine as “any device or piece of equipment that uses halogenated solvent liquid or vapor to remove soils from the surfaces of materials. Types of solvent cleaning machines include, but are not limited to, batch vapor, in-line cold, and batch cold solvent cleaning machines.” Although airless/airtight ultrasonic cleaning machines are not specified in this definition, it is clear the definition does not exclude these types of machines.

Abstract for [M070011]:

Q: Does EPA agree with the Oklahoma Department of Environmental Quality alternative method for determining that the volatile hazardous air pollutants (VHAP) content of gas and liquid hydrocarbon process streams can be reasonably be expected never to exceed 10.0 percent by weight in accordance with NESHAP, Subpart HH, § 63.772(a)(1), for the ONEOK Hydrocarbon, L.P. (ONEOK) facility located in Medford, Oklahoma?

A: Yes. EPA explains that well documented data from online gas chromatograph analyzers that are maintained according to manufacturer's QA/QC recommendations, mass balance calculation methods, process stream knowledge (including MSDS information), and other “good engineering judgment” techniques can be used as methods for determining, under MACT subpart HH, that the VHAP content of gas liquid hydrocarbon streams can be reasonably expected never to exceed 10.0 percent by weight.

Abstract for [M070012]:

Q: Is solvent used to dilute textile finishing materials at two TSG, Incorporated (TSG) facilities, which are located in Pennsylvania and North Carolina, subject to the organic Hazardous Air Pollutants (HAP) emission limit for finishing operations, under 40 CFR part 63, subpart OOOO?

A: Yes. The solvent used to dilute textile finishing materials is subject to the NESHAP subpart OOOO. The solvent that TSG uses to dilute stain repellent finishes is a transfer agent that is added to the finish as an auxiliary to improve the finishing process, and thus is a finishing material. For this reason, the added solvent, together with the other finishing materials used by TSG, would be subject to the 0.0003 kg of organic HAP per kg of applied finishing materials emission limit established in Table 1 of NESHAP subpart OOOO.

Abstract for [M070013]:

Q1: Is the coating of wooden window components prior to assembly at the Pella facility in Pella, Iowa, subject to 40 CFR part 63, subpart QQQQ?

A1: Yes. EPA finds that adhesives are considered coatings under NESHAP subpart QQQQ. Adhesives serve the function of bonding window components to each other. Thus, applied adhesive is a functional layer, and its application in this context constitutes the finishing of a wood building product. Therefore, adhesives are subject to NESHAP subpart QQQQ requirements when applied to a wooden window component or to the window assembly.

Q2: Is the coating of aluminum window components with high performance architectural coatings prior to assembly at the Pella facility in Pella, Iowa, subject to 40 CFR part 63, subpart MMMM?

A2: Yes. EPA finds that 40 CFR 63.3881(a) establishes that the surface coating of metal components (“parts”) of industrial, household, and consumer products is subject to NESHAP subpart MMMM. Windows are considered industrial, household, or consumer products since these are part of the NESHAP subpart MMMM wood building products source category. Therefore, coating aluminum window components with high performance architectural coatings is subject to applicable NESHAP subpart MMMM requirements. Adhesives applied to aluminum window components and used to bond them to other wood, glass, or metal components, or to the window assembly, are also metal coatings, and therefore, are subject to NESHAP subpart MMMM.

Abstract for [M070014]:

Q: Is the repainting and repair, at the Atlantic Marine facility in Jacksonville, Florida, of yachts that exceed 20 meters in length and are not used for military or commercial operations, subject to 40 CFR part 63, subpart II?

A: No. EPA finds that repainting and repair services performed on yachts exceeding 20 meters in length are not subject to the requirements under NESHAP subpart II. EPA plans to propose revisions to NESHAP subpart II to address this issue.

Abstract for [M070015]:

Q: Are eight aerospace cleaning activities utilizing azeotropic blends as described by 3M, Incorporated, exempt from 40 CFR part 63, subpart GG? Could EPA clarify compliance options for 3M facilities using the azeotropes for cleaning activities that are not exempt from MACT, 40 CFR part 63, subpart GG? 3M manufactures segregated hydrofluoroether volatile organic compounds (VOCs) exempted by EPA, in an azeotropic blend with dichloroethylene (DCE), a non-exempt VOC.

A: EPA made the following findings for the eight activities presented by 3M, which are based on the facts provided in the hypothetical given by 3M, and presumed to be facts for each scenario. Thus this response is considered only a guidance, and is not a binding adjudication of liability for any source, and does not constitute final agency action. Facilities needing a site-specific determination of applicability should discuss the specifics of their operation(s) with the appropriate delegated authority on a case-by-case basis.

Activity 1: Cleaning of aircraft engine hydraulic fluid leaks is not exempt from MACT subpart GG requirements.

Activity 2: Cleaning parts for non-destructive testing is not exempt from MACT Subpart GG requirements.

Activity 3: Cleaning aircraft and helicopter wheel and brake assemblies is not exempt from MACT subpart GG requirements.

Activity 4: Cleaning of hydraulic fluid leaks is not exempt from MACT subpart GG requirements.

Activity 5: Cleaning during operation of electrical equipment may or may not be subject to MACT subpart GG requirements, as discussed below. Cleaning operations using nonflammable liquids on unshielded assembled aircraft electrical circuits on or within five feet of them, once electrical power is connected, are exempted from the hand-wipe cleaning requirements. Cleaning operations on unshielded electrical circuits that are performed prior to installation on an assembled aircraft, or that are performed after installation on the aircraft but without electrical power connection, are not exempted from the hand-wipe cleaning requirements, unless they occur within five feet of an electrical system that is energized. Electric power tools, cooling fans, and portable power equipment are not energized electrical systems.

Activity 6: Cleaning of composite systems prior to adhesive bonding is not exempt from MACT subpart GG requirements.

Activity 7: Cleaning of electronic assemblies and printed circuit boards may or not be subject to MACT subpart GG requirements, as discussed below. Cleaning (including flux removal) of completed electronic assemblies is exempt from Subpart GG requirements prior to their permanent installation in the aircraft, when their cleaning is distinct from what other aircraft parts receive. Cleaning of printed circuit boards is exempt from Subpart GG requirements. Cleaning, including flux removal, of electronic assemblies using hand-wipe cleaning, either during manufacture or rework, is not subject to hand-wipe cleaning requirements. However, for completed electronic assemblies that have been permanently installed in the aircraft, or that receive the same cleaning as other parts of the aircraft, the facility must satisfy the housekeeping requirements.

Activity 8: Cleaning of aircraft instruments and instrumentation is exempt from MACT subpart GG requirements prior to their permanent installation.

Abstract for [Z070001]:

Q: Could EPA clarify the regulations regarding debris management and disposal under 40 CFR part 61, subpart M, in reference to the U.S. Army Corp of Engineers (USACE) and the State of Louisiana assisting the efforts to address the debris generated as a result of Hurricanes Katrina and Rita?

A: EPA explains that if a building or other structure has been totally destroyed by a hurricane, NESHAP subpart M does not apply to subsequent activities. However, the demolition and disposal of “partially-damaged” or “standing-but-unsafe-to-enter” structures are subject to Asbestos NESHAP requirements.

Abstract for [0700001]:

Q: May the Chalmette Refinery, located in Chalmette, Louisiana, comply with 40 CFR part 60, subpart RRR, in lieu of 40 CFR part 60, subpart NNN, for testing, monitoring, and recordkeeping related specifically to use of boilers and process heaters for compliance with the standards of both subparts?

A: Yes. The facility's refinery fuel gas system comprises boilers and process heaters, some with heat input capacities equal to or greater than 150 MMBTU/hr and some with heat input capacities less than 150 MMBTU/hr. Vent gases are mixed with other gaseous streams collected in the fuel gas system and distributed as a mixed gas stream that constitutes the primary fuel introduced into the flame zone of each boiler or process heater. None of the distillation vents are equipped with a bypass directly to the atmosphere. Thus, compliance with NSPS subpart RRR testing, monitoring, and recordkeeping requirements in lieu of NSPS subpart NNN similar requirements is acceptable. However, the facility must provide a copy of the schematic required by 40 CFR 60.705(s) and maintain the schematic in its onsite file for the life of the system to ensure that the affected vent streams are being routed to appropriate control devices under this approval.

Abstract for [0700002]:

Q1: The Cymetech facility in Calvert City, Kentucky, produces a by-product which contains a mixture of chemicals, some of which are listed in 40 CFR 60.489. Does 40 CFR part 60, subpart VV, apply to the operation?

A1: Yes. EPA finds that the operations are subject to NSPS subpart VV because the by-product includes listed chemicals and is sold because of the chemical characteristics of the listed chemicals.

Q2: If the Cymetech facility in Calvert City, Kentucky, is subject to 40 CFR part 60, subpart VV, does the exemption in 40 CFR 60.480(d)(3) apply?

A2: Yes. EPA finds that because the affected facility produces heavy liquid chemicals only from heavy liquid feed or raw materials, the exemption in 40 CFR 60.480(d)(3) is applicable, and the facility is not subject to the standards in 40 CFR 60.482.

Abstract for [0700003]:

Q: Are wood gasification systems at Norbord South Carolina, Inc., in Kinards, South Carolina and the University of South Carolina in Columbia, South Carolina, subject to 40 CFR part 60, subparts Db or Dc? The wood gasification systems will consist of wood gasifiers that produce synthetic gas, followed by secondary combustion chambers which combust the synthetic gas. Exhaust from the secondary combustion chambers will be used in steam generating boilers (and in a hot oil generator for one unit).

A: Yes. EPA finds that each secondary combustion chamber in combination with a steam boiler (and hot oil generator for one unit) is a steam generating unit affected facility. NSPS subpart Dc applies to steam generating units with a heat input capacity of 100 mmBtu/hr or less, but greater than or equal to 10 mmBtu/hr. NSPS subpart Db applies to steam generating units with a heat input capacity greater than 100 mmBtu/hr.

Abstract for [0700004]:

Q: Are the fabric filters used to control titanium dioxide spray dryers at the DuPont facility in New Johnsonville, Tennessee, considered dry control devices and therefore, required to meet the 40 CFR part 60, subpart UUU, opacity monitoring requirements? The company's argument that these are not subject is based on language from the Compliance Assurance Monitoring (CAM) rule at 40 CFR part 64, which exempts “inherent process equipment” from the CAM rule definition of “control device.”

A: Yes. The opacity monitoring requirements in 40 CFR 60.734(b) apply to the titanium dioxide spray dryers controlled with fabric filters. The provisions of the CAM rule do not reduce or eliminate the monitoring requirements of existing regulations.

Abstract for [0700005]:

Q: Does EPA waive the 40 CFR part 60, subpart MM, performance testing requirement for the E-coat, guide coat, and top coat lines at BMW's Spartanburg, South Carolina assembly plant during any month when the average volatile organic compound (VOC) emission rate does not exceed 3.8 pounds per vehicle?

A: Yes. Based upon historical emission rate data provided with BMW's request, demonstrating that the plant-wide VOC emission rate does not exceed 3.8 pounds per vehicle will provide adequate assurance of compliance for all three of the coating lines covered by the request. Given recordkeeping conducted in order to verify compliance with other applicable limits at the plant, BMW will have the information needed to verify NSPS subpart MM compliance during any month when the VOC emission rate does exceed 3.8 pounds per vehicle. Therefore, the request can be granted pursuant to 40 CFR 60.8(b)(4) of the General Provisions.

Abstract for [0700006] and [0700007]:

Q: Does EPA approve an alternative continuous emission monitoring frequency for NOX, CO, and O2, as provided by the quarterly cylinder gas audit (CGA) and the annual relative accuracy test audit (RATA) quality assurance procedures found under 40 CFR part 60, appendix F, for the ANP Bellingham Energy Company, LLC (ANP) facilities located in Bellingham and Blackstone, MA? The facilities propose to follow the “grace period” provisions of 40 CFR part 75, appendix B, section 2.2.4 (for CGAs) and section 2.3.3 (for RATAs).

A: Yes. EPA grants ANP Bellingham permission to conduct CGAs and RATAs following the “grace period” provisions of 40 CFR part 75, appendix B, section 2.2.4 (for CGAs) and section 2.3.3 (for RATAs, which would require that a CGA be conducted at least once every four calendar quarters regardless of operation and conduct a RATA at least once every eight calendar quarters regardless of operation.

Abstract for [0700008]:

Q: Does EPA approve the use of sensory means (i.e., sight, sound, smell), as an alternative to using EPA Method 21 as required by 40 CFR part 60, subpart VV, for the identification of leaks from equipment in propionic acid service at the Eastman Chemical Company facility in Kingsport, Tennessee?

A: Yes. The proposed alternative method for detection of leaks is acceptable. Monitoring results provided by Eastman indicate that leaks from equipment in propionic service are more easily identified through sensory methods than by using Method 21 because of the physical properties (high boiling points, high corrosivity, and low odor threshold) of propionic acid and the process conditions at the plant.

Abstract for [0700009]:

Q: Are the 40 CFR part 60, subpart RRR, flow monitoring procedures an acceptable alternative to the 40 CFR part 60, subpart NNN, requirements for the distillation operation at Degussa Corporation in Mobile, Alabama?

A: Yes. EPA finds that the NSPS subpart RRR flow monitoring procedures are an acceptable alternative to the flow monitoring procedures required under NSPS subpart NNN in this case. The NSPS subpart RRR requirement to monitor diversions from the control device accomplishes the same result (i.e., providing a record of when vent streams are not controlled) as the NSPS subpart NNN requirement to monitor the flow to the control device.

Abstract for [0700010]:

Q1: Does 40 CFR part 60, subpart DD, apply only to the unmalted barley grain portion of the operation at the Grupu-Modelo Agriculture, Inc. (GMA) new malting facility located in Idaho Falls, Idaho?

A1: Yes. EPA has concluded that NSPS subpart DD applies to the unmalted barley grain portion of GMA operation. However, it does not apply to the malting processes, the second part of the operations of the malting plant. NSPS subpart DD does not apply to malted barley because it is not considered a grain. Furthermore, NSPS subpart DD does not apply to operations involving malt because the rule addresses emissions resulting from handling processes and not from processes which effect a chemical or physical change in the product.

Q2: Is GMA required to perform performance testing under EPA 40 CFR part 60, subpart DD, on the kiln vents used for drying green malt that has been transformed from barley?

A2: EPA has determined the GMA kilns are not subject to NSPS subpart DD since these are used only for the malt process. Therefore, GMA is not required to conduct performance tests on the two kiln vents pursuant to NSPS subpart DD.

Abstract for [0700011]:

Q: Does EPA approve a delay in the installation of a Continuous Opacity Monitor System (COMS), under 40 CFR part 60, subpart Db, on a boiler at the Bennett Forest Industries (BFI) facility located in Grangeville, Idaho, until the facility reaches steaming rates above half its physical and permitted capacity?

A: No. EPA denies this request. A COMS must be installed and operated in accordance with the timeframes and requirements specified in NSPS subpart Db. The General Provisions require that the COMS be installed and operational no later than 180 days after initial startup of the BFI boiler. Furthermore, if COMS data will be used to demonstrate compliance with the opacity requirements as provided in 40 CFR 60.11(e)(5), there are additional requirements that must be met prior to conducting the performance test, described in 40 CFR 60.13(c). Even if EPA were to construe the request for the delay of the installation of the COMS as a request for approval of alternative monitoring procedures, EPA does not believe BFI has provided sufficient justification for an alternative monitoring. EPA does not believe that the costs of complying with other environmental regulations alone provide a sufficient basis for an alternative monitoring request. BFI has not shown that timely installation of the COMS is technically or economically infeasible, or otherwise impracticable.

Abstract for [0700012]:

Q: Does EPA waive the initial performance test for a gas producer unit (turbine compressor and combustor) at Unocal Alaska's Dolly Varden Platform (Unocal) in Cook Inlet, Alaska?

A: Yes. EPA waives the requirement to conduct an initial performance test pursuant to 40 CFR part 60, subpart A, § 60.8(b)(4), because Unocal has demonstrated compliance with the standard using other means.

Abstract for [0700013]:

Q: Does EPA approve Alyeska Pipeline Service Company's fuel gas demonstration for fuel gas combusted at the Trans Alaska Pipeline System (TAPS) pump stations 1 through 4?

A: Yes. Based on the information submitted to EPA, Alyeska Pipeline Service Company has demonstrated that the fuel gas combusted at TAPS meets the definition of a natural gas as defined by 40 CFR 60.331(u).

Abstract for [0700014]:

Q1: Is an exclusively wood-fired boiler at the Bennett Forest Industries (BFI) facility located in Grangeville, Idaho, subject to the requirement to record the amount of wood combusted each day and to calculate the annual capacity factor for wood as detailed in 40 CFR part 60, subpart Db, § 60.49b(d)?

A1: No. EPA has determined that if BFI is subject to the more stringent emission limit for particulate matter of 0.10 lb/million Btu and a restriction to combust only wood, the requirement to record the amount of wood combusted each day is not needed for the purposes of calculating the annual capacity factor, as required by NSPS subpart Db, § 60.49b(d). Assuming the restriction to burn only wood is required by a federally enforceable permit, EPA can be assured that the annual capacity factors for all other fuels aside from wood will be zero. If BFI is subject to the more stringent limit for particulate matter of 0.10 lb/million Btu, there is also no need for BFI to calculate the annual capacity factor for wood.

Q2: Does EPA accept the use of a steaming rate monitor, which is capable of calculating fuel usage, as an alternate method for determining the amount of wood combusted for a wood-fired boiler at a BFI facility? BFI has requested this alternative method because there are physical difficulties in measuring the actual mass of the wood that they combust as it comes in various forms resulting from their operation as a lumber mill.

A2: Yes. EPA has determined that considering BFI's circumstances related to this request, if needed, this approach is acceptable for calculating the amount of wood combusted.

Abstract for [0700015]:

Q: Does EPA approve a custom fuel monitoring schedule under 40 CFR part 60, subpart GG, for Union Oil Company of California at its Steelhead Platform, Cook Inlet Alaska?

A: Yes. EPA approves the custom fuel monitoring schedule according to an August 14, 1987, national policy which allows EPA regional offices to approve NSPS subpart GG custom fuel monitoring schedules on a case-by-case basis. In this case, what is being approved is the inclusion of a new turbine into the existing custom fuel monitoring schedule.

Abstract for [0700016]:

Q: Is the changing of a nozzle tip to accommodate residual fuel in Boiler #3 at the Idahoan Foods (Idahoan) facility located in Lewisville, Idaho, considered a modification according to 40 CFR 60.14 of the General Provisions?

A: No. Idahoan intended to purchase a boiler that was designed to accommodate multiple liquid fuel types at its construction. EPA determines that the need to change-out the nozzle tips to accommodate different fuels is an inherent design of the boiler, and therefore Boiler #3 was originally designed to accommodate residual and diesel fuel in addition to natural gas. Under 40 CFR 60.14(e)(4), the use of an alternative fuel, if prior to the applicability date the existing facility was designed to accommodate that alternative fuel, shall not by itself be considered a modification.

Abstract for [0700017]:

Q1: Does EPA agree that three of Unocal Alaska incinerators located at Granite Point Platform, Swanson River Field, and Trading Bay Production Facility that are subject to 40 CFR Part 62, subpart III, for Commercial and Industrial Solid Waste Incinerators (CISWI), meet the criteria for the exemption for municipal waste combustion units under 40 CFR 62.14525(c)(2)?

A1: Yes. EPA agrees that the three Unocal's incinerators meet the exemption in 40 CFR 62.14525(c)(2) and therefore, accepts this notification of exemption under 40 CFR 62.14525(c)(2).

Q2: Is Unocal currently required to submit a Title V permit application for an incinerator, located at the East Foreland Dock Facility (EFDF), that was subject to 40 CFR part 62, subpart III, but that was permanently shut down as of June 15, 2004?

A2: No. Unocal is no longer required to submit a Title V permit application for the EFDF incinerator because it has been permanently shut down and is no longer operating.

Abstract for [0700018]:

Q: Does EPA approve a reduction in the fuel usage recordkeeping requirement in 40 CFR part 60, subpart Dc, § 60.48(c), from daily to monthly, for a natural gas-fired boiler at a BARI facility in Idaho Falls, Idaho?

A: Yes. EPA approves the request from BARI for a reduction in the fuel usage recordkeeping requirement in 40 CFR part 60, subpart Dc, § 60.48(c), from daily to monthly, and to use a gas meter to record monthly fuel usage, with the monthly fuel bill as a back-up record in the event of a meter malfunction.

Abstract for [0700019]:

Q: Does EPA waive applicability of 40 CFR part 60, subpart Db, and 40 CFR part 60, subpart Dc, for Boilers No. 3 and No. 4 at the Idaho Supreme Potato (ISP) facility in Firth, Idaho, given that an assumed modification of replacing nozzles reported on February 13, 2001, did not actually happen?

A: Yes. EPA has determined that Boilers No. 3 and No. 4 were not modified pursuant to 40 CFR 60.14, and therefore, are currently not subject to NSPS subparts Db or Dc. This determination is based on the assumption that although Boiler No. 4 still has the physical ability to burn coal in Boiler No. 4 it will not do so. In a previous EPA applicability determination on ISP's Boiler No. 4 dated March 13, 1995, EPA assumed that this boiler would not burn coal in the future. Therefore, if coal were to be burned in Boiler No. 4 in the future, the 1995 EPA determination would no longer be valid. In such an event, NSPS and PSD review would be triggered.

Abstract for [0700020]:

Q: Does EPA approve a custom fuel monitoring schedule under 40 CFR part 60, subpart GG, for ConocoPhillips Alaska's Alpine Development Project in North Slope, Alaska?

A: Yes. EPA approves the custom fuel monitoring schedule according to an August 14, 1987, national policy which allows EPA regional offices to approve NSPS subpart GG custom fuel monitoring schedules on a case-by-case basis. In this case, what is being approved is a custom fuel monitoring schedule for fuel oil monitoring and demonstration that the facility's gaseous fuel meets the definition of a natural gas.

Abstract for [0700021]:

Q: Does EPA grant an extension of the initial performance test date for stationary gas turbines, subject to 40 CFR part 60, Subpart GG, which are located at the ConocoPhillips Alpine (CPA) Development Project, in North Slope, Alaska?

A: No. EPA denies CPA's request for an extension.

Abstract for [0700022]:

Q: Does EPA approve alternative test methods for the performance evaluation to demonstrate compliance with 40 CFR part 60, subpart I, § 60.90, at the Alaska Roadbuilders' (ARB) RB350 ADM Asphalt Plant in Alaska?

A: Yes. EPA concludes that the proposed testing meets the requirements of 40 CFR part 60, subpart I, and the EPA test methods specified therein. Assigning a value of 30.0 to the dry gas molecular weight, in lieu of actual measurements of O2 and CO is an acceptable alternative for processes burning natural gas, coal or oil according to EPA Method 3, Section 1.3, subject to the approval of the Administrator.

Q2: Does EPA waive the 30-day notice prior to conducting a performance evaluation that is required according to 40 CFR § 60.7(a)(5) and 60.8(d) at the ARB RB350 ADM Asphalt Plant?

A2: Yes. EPA grants the request for a waiver of this requirement pursuant to 40 CFR 60.19(f)(3).

Abstract for [0700023]:

Q: Does EPA approve a reduction in the fuel usage record-keeping requirement in 40 CFR part 60, subpart Dc, § 60.48c, from daily to monthly, as well as the use of one gas meter to record monthly natural gas usage for four boilers at the Saint Lucas Regional Medical Center (SLRMC)?

A: Yes. EPA approves a reduction in the fuel usage record-keeping requirement in NSPS Subpart Dc from daily to monthly and the use of one gas meter to record monthly natural gas usage for SLRMC's four boilers. The approval for the reduction in the recordkeeping to monthly instead of daily is based on a memorandum dated February 20, 1992, from the EPA Office of Air Quality Planning and Standards which states that there is little value in requiring daily recordkeeping of the amounts of fuel combusted for an affected unit that fires only natural gas with clean low-sulfur fuel oil (sulfur content less than 0.5 percent) as a backup.

Abstract for [0700024]:

Q: Is the incineration unit at a pet crematory in Palmer, Alaska, exempted from the requirements of 40 CFR part 60, subpart Ec, for Hospital/Medical/Infectious Waste Incineration (HMIWI), because only pathological wastes will be combusted? Is a permit required for this operation?

A: EPA has determined that provided the requirements are met for the pathological wastes, according to 40 CFR 60.50c(b), the incineration unit is not subject to the HMIWI regulation. A Federal Title V Air Operating Permit (Title V permit) is not required for the purposes of the HMIWI regulation if the exemption is maintained.

Abstract for [0700025]:

Q1: Does EPA approve monthly instead of daily monitoring of natural gas usage for a vaporizer subject to 40 CFR part 60, subpart Dc, at the BOC Edwards (BOC) facility in Hillsboro, Oregon?

A1: Yes. EPA conditionally approves monthly instead of daily monitoring of natural gas usage for the BOC affected vaporizer pursuant to NSPS subpart Dc.

Q2: Does EPA approve the use of fuel receipts from a gas supplier to serve as monthly monitoring method, under 40 CFR part 60, subpart Dc?

A2: Yes. EPA approves the use of fuel receipts from a gas supplier to serve as monthly monitoring method under NSPS subpart Dc.

Q3: Could EPA determine whether the amount of natural gas used by the affected facility (vaporizer) can be determined by the following calculation method rather than direct measurement: (monthly vaporizer gas usage) = (monthly site natural gas usage from fuel bill)−(average monthly site natural gas usage before installation of the vaporizer).

A3: Yes. EPA finds that the amount of natural gas used by the affected facility (vaporizer) can be determined by the calculation method proposed rather than by direct measurement, as long as the average monthly site natural gas usage before installation of the vaporizer was nearly constant and will remain the same with no new natural gas usage.

Abstract for [0700026]:

Q1: Does EPA approve a request for a reduction in the fuel usage recordkeeping requirement in 40 CFR part 60, subpart Dc, § 60.48c, from daily to monthly for two 25.13 MMBTU/hr boilers fueled by propane and located at Glanbia Foods Inc. (Glanbia) facility in Richfield, Idaho?

A1: Yes. EPA approves the request for a reduction in the fuel usage recordkeeping requirement in 40 CFR 60.48c from daily to monthly. This approval is based on a memorandum dated February 20, 1992, from the EPA Office of Air Quality Planning and Standards, which states that there is little value in requiring daily recordkeeping of the amounts of fuel combusted for an affected unit that fires only natural gas, and the definition of natural gas, from the Acid Rain Program, in 40 CFR part 72.

Q2. Does EPA approve one gas meter for two boilers that will measure the total natural gas usage per month?

A2. Yes. When more than one boiler is firing propane simultaneously, they will divide each boiler design heat input capacity by the total of the design heat input capacities of each boiler, and use this to prorate the natural gas usage of each boiler on a monthly basis. EPA determines that this will adequately determine the fuel usage by each boiler.

Abstract for [0700027]:

Q1: Does EPA approve a reduction in the fuel usage recordkeeping requirement in 40 CFR part 60, subpart Dc, § 60.48c, from daily to monthly for boilers fueled by natural gas, diesel fuel and/or biomass located at the Glanbia Foods Incorporated facility in Gooding, Idaho?

A1: EPA finds that boiler No. 1 is not subject to NSPS subpart Dc requirements since it was installed before the applicability date of the rule. EPA approves the request from Glanbia for a reduction in the fuel usage record-keeping requirement in 40 CFR 60.48c of Subpart Dc from daily to monthly for Boilers 2, 3, and 4, which burn natural gas exclusively or natural gas with diesel fuel as a backup. The approval for boilers No. 2 through 4 is based on a memorandum dated February 20, 1992, from the EPA Office of Air Quality Planning and Standards which states that there is little value in requiring daily recordkeeping of the amounts of fuel combusted for an affected unit that fires only natural gas or natural gas with clean low-sulfur fuel oil (sulfur content less than 0.5 percent) as a backup.

Q2: Does EPA approve one gas meter for several boilers fueled by natural gas that will measure the total natural gas usage per month?

A2: Yes. EPA determines that this will adequately determine the fuel usage by each boiler. When more than one boiler is firing natural gas simultaneously, they will divide each boiler design heat input capacity by the total of the design heat input capacities of each boiler, and use this to prorate the natural gas usage of each boiler on a monthly basis. For boilers 2 and 3, which are capable of firing low sulfur diesel fuel, each boiler will maintain individual fuel oil meters.

Q3: Does EPA approve a reduction in the fuel usage record-keeping requirement in 40 CFR 60.48c from daily to monthly for boiler No. 5, which is fueled by biogas, from the wastewater treatment effluent process as the primary fuel and can burn natural gas as a backup?

A3: No. EPA cannot approve this request at this time because the decision to reduce this requirement for certain boilers is based on the assumption that that fuel has low sulfur content. The sulfur content of natural gas is well known; however, the use of biogas in the context of this regulation has not been addressed before and it is uncertain what the sulfur content of biogas would be in this particular case.

Abstract for [0700028]:

Q: Is 40 CFR part 60, subpart Dc, applicable to Trident's Boiler No. 6, which was installed at the facility in 1994 but which the manufacturer's nameplate shows as constructed in 1976?

A: No. NSPS subpart Dc applies to “Each steam generating unit for which construction, modification, or reconstruction is commenced after June 9, 1989.” The boiler was operated prior to June 9, 1989, elsewhere in Alaska before its relocation and it has not been rebuilt, reconstructed, or modified since its original installation. Under the NSPS general provisions, 40 CFR 60.14(e)(6), the relocation or change in ownership of an existing facility shall not, by itself, be considered a modification.

Abstract for [0700063]:

Q: Do 40 CFR part 60, subpart NNN (Distillation Operations in the Synthetic Organic Chemical Industry (SOCMI)) and 40 CFR Part 60, Subpart RRR (Reactor Operations in the SOCMI), apply to the manufacturing of biodiesel and glycerin from soybean oil and methanol at the North Prairie Productions (NPP) facility located in Evansville, Wisconsin?

A: Yes. NSPS subparts NNN and RRR apply to the production of glycerin from soybean oil and methanol at the NPP biodiesel manufacturing facility, although certain exemptions may apply to the facility based on its production capacity and vent stream characteristics. The Agency finds that the production of glycerin in the process described by NPP is SOCMI, as both glycerin and methanol are SOCMI chemicals and appear on the chemical use trees. Additionally, the NPP process will use distillation and reaction operations, the units defined as affected facilities under Subparts NNN and RRR, respectively, which will result in emissions of volatile organic compounds (VOCs), which are the pollutants of concern under those NSPS.

Dated: November 16, 2007.
Lisa C. Lund,
Acting Director, Office of Compliance.

Editorial Note: This document was received at the Office of the Federal Register on February 27, 2008.

[FR Doc. E8-4030 Filed 2-29-08; 8:45 am]

BILLING CODE 6560-50-P